DEPARTMENT OF COMMERCE

International Trade Administration

[A-201-844]

Steel Concrete Reinforcing Bar From Mexico: Final Results of Antidumping Duty Administrative Review; 2019-2020

AGENCY: Enforcement and Compliance, International Trade Administration, Department of Commerce.

SUMMARY: The U.S. Department of Commerce (Commerce) determines that steel concrete reinforcing bar (rebar) from Mexico was sold in the United States at less than normal value during the period of review (POR), November 1, 2019, through October 31, 2020.

DATES: Applicable June 8, 2022.

FOR FURTHER INFORMATION CONTACT: David Lindgren or Kyle Clahane, AD/CVD Operations, Office III, Enforcement and Compliance, International Trade Administration, U.S. Department of Commerce, 1401 Constitution Avenue NW, Washington, DC 20230; telephone: (202) 482-1671 or (202) 482-5449, respectively.

SUPPLEMENTARY INFORMATION:

Background

On December 3, 2021, Commerce published the Preliminary Results for this review in the Federal Register and invited interested parties to comment on those results.¹ From January 2 to February 11, 2022, Commerce received case briefs on behalf of Deacero S.A.P.I. de C.V. (Deacero), Grupo Simec,² Sidertul S.A. de C.V. (Sidertul), and Grupo Acerero S.A. de C.V. (Grupo Acerero). From February 18 to 24, 2022, the petitioners ³ and Grupo Simec submitted rebuttal briefs and comments.⁴

¹ See Steel Concrete Reinforcing Bar from Mexico: Preliminary Results of Antidumping Duty Administrative Review; 2019-2020, 86 FR 68632 (December 3, 2021) (Preliminary Results), and accompanying Preliminary Decision Memorandum.

² Commerce has previously collapsed the following entities into a single entity, collectively, Grupo Simec: Grupo Simec; Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and Simec International 9 S.A. de C.V. See, e.g., Steel Concrete Reinforcing Bar from Mexico: Final Results of Antidumping Duty Administrative Review and Final Determination of No Shipments; 2018-2019, 86 FR 50527, 50528 (September 9, 2021).

³ The petitioners are the Rebar Trade Action Coalition and its individual members, Nucor Corporation; Ameristeel US Inc.; Commercial Metals Company; Cascade Steel Rolling Mills, Inc.; and Byer Steel Corporation.

⁴ See Memorandum, “Steel Concrete Reinforcing Bar from Mexico: Issues and Decision Memorandum for the Final Results of Antidumping Duty Administrative Review; 2019-2020,” dated concurrently with, and hereby adopted by, this notice (Issues and Decision Memorandum).

Commerce extended the deadline for the final results by 27 days on March 7, 2022, and by an additional 33 days on April 22, 2022.⁵ The deadline for the final results of this review is now June 1, 2022. For a complete description of the events that occurred since the Preliminary Results, see the Issues and Decision Memorandum.⁶

⁵ See Memorandum, “Steel Concrete Reinforcing Bar from Mexico: Antidumping Duty Administrative Review; 2019-2020; Extension of Deadline for Final Results,” dated March 7, 2022; see also “Steel Concrete Reinforcing Bar from Mexico: Antidumping Duty Administrative Review; 2019-2020; Extension of Deadline for Final Results,” dated April 22, 2022.

⁶ See Issues and Decision Memorandum.

Scope of the Order ⁷

⁷ See Steel Concrete Reinforcing Bar from Mexico: Antidumping Duty Order, 79 FR 65925 (November 6, 2014) (Order).

The product covered by the Order is rebar from Mexico. For a complete description of the scope, see the Issues and Decision Memorandum.

Analysis of Comments Received

All issues raised in the case and rebuttal briefs are addressed in the Issues and Decision Memorandum. A list of the issues that parties raised and to which we responded in the Issues and Decision Memorandum is attached at the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for Deacero. For a discussion of the issues, see the Issues and Decision Memorandum.⁸

⁸ Id. at 3 and 6.

Use of Adverse Facts Available

We continue to find that the application of facts available with an adverse inference (AFA), pursuant to sections 776(a) and (b) of the Tariff Act of 1930, as amended (the Act), is warranted in determining Grupo Simec's dumping margin because it withheld information regarding its sales and cost reconciliations and potential affiliations, incorrectly reported control numbers, and provided unreliable and unusable sales and cost databases.⁹ Therefore, as in the Preliminary Results, as AFA, we assigned Grupo Simec a dumping margin of 66.70 percent. See the Issues and Decision Memorandum for further discussion.¹⁰

⁹ See Preliminary Results.

¹⁰ See Issues and Decision Memorandum at Comment 4; see also Memorandum, “Grupo Simec Questionnaire Deficiencies Analysis,” dated concurrently with this notice.

Commerce is not required to corroborate any dumping margin applied in a separate segment of the same proceeding.¹¹ Because the 66.70 percent rate was applied in a separate segment of this proceeding, Commerce does not need to corroborate the rate in this review.

¹¹ See section 776(c)(2) of the Act.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides instructions for calculating the all-others rate in an investigation, for guidance when calculating the rate for companies which we did not examine in an administrative review.

When the rates for individually examined companies are all zero, de minimis, or based entirely on facts available, section 735(c)(5)(B) of the Act provides that Commerce may use “any reasonable method” to establish the all-others rate.

We calculated a zero percent dumping margin for one of the mandatory respondents in this review, Deacero, and we based the dumping margin on facts available with an adverse inference for the other mandatory respondent, Grupo Simec. Therefore, we assigned the companies not selected for examination a dumping margin equal to the simple average of the dumping margins for Deacero and Grupo Simec, consistent with the guidance in section 735(c)(5)(B) of the Act.¹²

¹² See, e.g., Ball Bearings and Parts Thereof from France, Germany, Italy, Japan, and the United Kingdom: Final Results of Antidumping Duty Administrative Reviews and Rescission of Reviews in Part, 73 FR 52823, 52824 (September 11, 2008), and accompanying Issues and Decision Memorandum, at Comment 16.

Final Results of Review

Commerce determines that the following weighted-average dumping margins exist for the period November 1, 2019, through October 31, 2020:

Producer and/or exporter | Weighted-average dumping margin (percent)
Deacero S.A.P.I de C.V | 0.00
Grupo Simec (Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and Simec International 9 S.A. de C.V.) | 66.70
Grupo Acerero S.A. de C.V | 33.35
Sidertul S.A. de C.V | 33.35

Assessment Rate

Pursuant to section 751(a)(2)(A) of the Act, and 19 CFR 351.212(b)(1), Commerce shall determine, and U.S. Customs and Border Protection (CBP) shall assess, antidumping duties on all appropriate entries covered by this review. Commerce intends to issue assessment instructions to CBP no earlier than 35 days after the date of publication of the final results of this review in the Federal Register, in accordance with 19 CFR 356.8(a). If a timely summons is filed at the U.S. Court of International Trade, the assessment instructions will direct CBP not to liquidate relevant entries until the time for parties to file a request for a statutory injunction has expired (i.e., within 90 days of publication).

Pursuant to 19 CFR 351.212(b)(1), we calculated importer-specific antidumping duty assessment rates by aggregating the total amount of dumping calculated for the examined sales of each importer and dividing each of these amounts by the total entered value associated with those sales. Where either the respondent's weighted-average dumping margin is zero or de minimis within the meaning of 19 CFR 351.106(c)(1), or an importer-specific assessment rate is zero or de minimis, we will instruct CBP to liquidate the appropriate entries without regard to antidumping duties. Commerce's “automatic assessment” will apply to entries of subject merchandise during the POR produced by Deacero for which it did not know that the merchandise it sold to an intermediary (e.g., a reseller, trading company, or exporter) was destined for the United States. In such instances, we will instruct CBP to liquidate unreviewed entries at the all-others rate if there is no rate for the intermediate company(ies) involved in the transaction.

Because we are applying total AFA to Grupo Simec, we will instruct CBP to apply an assessment rate to all entries Grupo Simec produced and/or exported equal to the dumping margin indicated above in the “Final Results of Review.” Further, the assessment rate for antidumping duties for each of the companies not selected for individual examination will be equal to the weighted-average dumping margin identified above in the “Final Results of Review.”

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 20.58 percent, the rate established in the investigation of this proceeding.¹³ These cash deposit requirements, when imposed, shall remain in effect until further notice.

¹³ See Steel Concrete Reinforcing Bar from Mexico: Final Determination of Sales at Less Than Fair Value and Final Affirmative Determination of Critical Circumstances, 79 FR 54967 (September 15, 2014).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: June 1, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether Grupo Simec Should Have Been Granted More Time to Cure Its Questionnaire Deficiencies

Comment 2: Whether Grupo Simec Should Have Been Issued Another Supplemental Questionnaire

Comment 3: Whether Commerce Correctly Rejected Grupo Simec's Untimely Submission of Additional Information

Comment 4: Whether Commerce Should Have Applied AFA to Grupo Simec

Comment 5: Whether Commerce Selected the Correct AFA Rate To Assign to Grupo Simec

Comment 6: Whether Deacero's Margin Programming Contained Clerical Errors

Comment 7: Whether Commerce's Methodology To Determine the Rate for Non-Selected Respondents Is Reasonable

VI. Recommendation

[FR Doc. 2022-12316 Filed 6-7-22; 8:45 am]

BILLING CODE 3510-DS-P